INTERNATIONAL TRADE COMMISSION

[USITC SE-16-045]

GOVERNMENT IN THE SUNSHINE ACT MEETING NOTICE

AGENCY HOLDING THE MEETING: United States International Trade Commission.

TIME AND DATE: January 10, 2017 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. No. 731-TA-1306 (Final) (Large Residential Washers from China). The Commission is currently scheduled to complete and file its determinations and views of the Commission by January 30, 2017.

5. Vote in Inv. No. 731-TA-1058 (Second Review) (Wooden Bedroom Furniture from China). The Commission is currently scheduled to complete and file its determinations and views of the Commission by January 25, 2017.

6. Outstanding action jackets: None.

In accordance with Commission policy, subject matter listed above, not disposed of at the scheduled meeting, may be carried over to the agenda of the following meeting.

By order of the Commission.
Issued: December 21, 2016.
William R. Bishop,
Supervisory Hearings and Information Officer.

[FR Doc. 2016-31295 Filed 12-22-16; 11:15 am]

BILLING CODE 7020-02-P